NATIONAL ARCHIVES AND RECORDS ADMINISTRATION

Office of the Federal Register

Rules and Regulations

Corrections

In the Rules and Regulations section of the Tuesday, August 1, 2006 edition of the Federal Register, make the following corrections to these page numbers:

1. Page 83346 should read page 43346.

2. Page 83356 should read page 83356.

3. Page 83358 should read page 83358.

[FR Doc. C6-99999 Filed 8-3-06; 8:45 am]

BILLING CODE 1505-01-D